DEPARTMENT OF AGRICULTURE

Rural Utilities Service

Great River Energy; Notice of Finding of No Significant Impact

AGENCY: Rural Utilities Service, USDA.

ACTION: Notice of finding of no significant impact.

SUMMARY: Notice is hereby given that the Rural Utilities Service (RUS) has made a finding of no significant impact (FONSI) with respect to a project proposed by Great River Energy (GRE) of Elk River, Minnesota. The project consists of a short reroute of an existing GRE 230 kV transmission line to facilitate access to coal reserves of the Falkirk Mining Company, and a short segment of additional 230 kV line to provide for separation of the circuits on an existing double-circuited transmission line. The project is located approximately 4.5 miles south and 4 miles west of Underwood in McLean County, North Dakota. RUS may provide financial assistance to GRE for this project.

FOR FURTHER INFORMATION CONTACT: Nurul Islam, Environmental Protection Specialist, Rural Utilities Service, Engineering and Environmental, Staff, Stop 1571, 1400 Independence Avenue SW., Washington, DC 20250-1571, telephone: (202) 720-1414; Fax: (202) 720-0820 e-mail: nislam@rus.usda.gov. Information is also available from Ms. Carole Schmidt, Environmental Scientist, Great River Energy, 17845 E. Highway 10, P.O. Box 800, Elk River, MN 55330-0800, telephone: (763) 241-2272; e-mail: cschmidt@GREnergy.com.

SUPPLEMENTARY INFORMATION: GRE currently owns a 230 kV transmission line that runs between two of its generating facilities—Coal Creek Station (Coal Creek) and Stanton Station (Stanton). A 4.5-mile portion of this line is double-circuited. The purpose of this project is two fold: (1) To reroute a portion of this transmission line to allow access to coal reserves in the area of the line, and (2) to separate the two circuits onto separate transmission structures to allow for additional transmission capacity in the Coal Creek-Stanton area. The relocation will maintain transmission capabilities between Coal Creek and the Stanton area. GRE also intends to place an optical ground wire (fiber optic cable) between Coal Creek and Stanton area to provide a high-speed telecommunications link between the two sites. Portions of the fiber optic cable will be installed in underground conduit. The conduit will be installed by trenching at a depth of approximately 36 inches. A right-of-way of 120 feet will be needed for the line. A combination of single-pole and H-frame structures will be used for the transmission line. The proposed rerouted portion of the line and separation of the line onto separate transmission structures of the double-circuited portion of the 230 kV line will allow for additional transmission capacity in the Coal Creek-Stanton area. This will facilitate increased coal-fired generation in the area.

RUS, in accordance with its environmental policies and procedures, requires that GRE prepare an environmental report reflecting the potential impacts of the proposed facilities. The environmental report that includes input from federal, state, and local agencies has been reviewed and accepted as RUS’ Environmental Analysis (EA) for the project in accordance with 7 CFR 1794.41. GRE published notices of the availability of the EA and solicited public comments per 7 CFR 1794.42. The 30-day comment period on the EA for the proposed project ended May 20, 2002. No comments were received on the EA. GRE, however, received comments on the environmental report from federal, state, and local agencies. GRE has agreed to follow Federal, State, and local agency recommendations and secure all permits prior to constructing and during operation of the proposed facilities.

Based on the EA and the GRE's commitments to follow all agency recommendations, RUS has concluded that the proposed action will not have a significant effect to various resources, including important farmland, floodplains, wetlands, cultural and historic properties, threatened and endangered species and their critical habitat, and water quality. RUS has also determined that there would be no negative impacts of the proposed project on minority communities and low-income communities as a result of construction of the project. RUS believes that there are no significant potential environmental conflicts related to this project.

Dated: July 12, 2002.
Alfred Rodgers,
Acting Assistant Administrator, Electric Program, Rural Utilities Service.

[FR Doc. 02-18044 Filed 7-17-02; 8:45 am]

BILLING CODE 3410-15-P